DEPARTMENT OF HOMELAND SECURITY

Federal Emergency Management Agency

Agency Information Collection Activities: Proposed Collection; Comment Request

AGENCY: Federal Emergency Management Agency, DHS.

ACTION: Notice; 60-day notice and request for comments; revision of a currently approved collection, OMB Number 1660-0011, FEMA Form 22-13.

SUMMARY: The Federal Emergency Management Agency (FEMA), as part of its continuing effort to reduce paperwork and respondent burden, invites the general public and other Federal agencies to take this opportunity to comment on a proposed revised information collection. In accordance with the Paperwork Reduction Act of 1995, this notice seeks comments concerning an information collection system for disaster program accounts and debts receivable. The automated portion of the system is an accounts receivable system and is complimented by a manual technique that collects personal financial data directly from individual debtors by their completion of FEMA Form 22-13.

SUPPLEMENTARY INFORMATION: When errors in payments occur or reviews and audits determine that overpayments were made in various disaster entitlements, FEMA's Disaster Finance Branch (DFB), Office of the Chief Financial Officer (CFO) records pertinent receivable data, including individuals' personal data, within an automated, commercial, off-the-shelf (COTS) accounts receivable system—ACCPAC. Using various screens, a receivable is established to bill, monitor payments and produce reports. If, for lack of payment, an account receivable becomes a debt, ACCPAC continues as the receivable billing and collection system, but additional personal financial information is gathered and used to determine an ability to pay in setting requirements of installment payment agreements. DHS debt collection regulations, 6 CFR part 11, require FEMA to maintain current credit data on FEMA's debtors. To determine debtors' financial condition, this includes the individual debtors' own financial statements, executed under penalty for false claim, concerning their assets and liabilities and their income and expenses. FEMA Form 22-13 is the vehicle used to collect such data directly from the individual debtor. FEMA uses this data to understand the debtors' financial conditions to accurately determine their ability to pay debts, to set arrangements for installment payments of debts, or to compromise/terminate debt collection. This data is also used to locate debtors' assets should it become necessary when referring debts to the Treasury Department for collection.

Collection of Information

Title: Debt Collection Financial System.

Type of Information Collection: Revision of a currently approved collection.

OMB Number: 1660-0011.

Form Numbers: FEMA Form 22-13, Debt Collection Financial Statement.

Abstract: FEMA may request debtors to provide personal financial information on FEMA Form 22-13 concerning their current financial position. With this information, FEMA evaluates whether to allow debtors to pay the FEMA debts under installment repayment agreements and if so, under what terms. FEMA also uses this data to determine whether to compromise, suspend, or completely terminate collection efforts on respondent's debts. This data is also used to locate the debtor's assets if the debts are sent for judicial enforcement.

Affected Public: Individuals or Households.

Estimated Total Annual Burden Hours: 750 hours.

Annual Hour Burden
Data collection activity/instrument | Number of respondents | Frequency of responses | Hour burden per response | Annual responses | Total annual burden hours
| (A) | (B) | (C) | (D) = (A × B) | (C × D)
FEMA Form 22-13, Debt Collection Financial Statement | 1,000 | 1 | .75 | 1,000 | 750
Total | 1,000 | 1 | .75 | 1,000 | 750

Estimated Cost: There are no costs to the respondents resulting from the collection of information since debtor-respondents provide the necessary data either from memory or from their own records that they already maintain. Cost to the respondents for the hour burdens is $10,597.50.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before December 31, 2007.

ADDRESSES: Interested persons should submit written comments to, Office of Management, Records Management Division, Federal Emergency Management Agency, 500 C Street, SW., Room 609, Washington, DC 20472.

FOR FURTHER INFORMATION CONTACT: Contact Michael Komack, Policy Analyst, Financial Policy Branch, Office of the CFO, 202 646-4164 for additional information. You may contact the Records Management Branch for copies of the proposed collection of information at facsimile number (202) 646-3347 or e-mail address: FEMA-Information-Collections@dhs.gov.

Dated: October 23, 2007.
John A. Sharetts-Sullivan,
Director, Office of Records Management, Office of Management, Federal Emergency Management Agency, Department of Homeland Security.

[FR Doc. E7-21537 Filed 10-31-07; 8:45 am]

BILLING CODE 9110-49-P